ENVIRONMENTAL PROTECTION AGENCY

[FRL-9997-75-OA]

Notification of a Public Teleconference of the Science Advisory Board Computable General Equilibrium Model Review Panel

AGENCY: Environmental Protection Agency (EPA).

ACTION: Notice.

SUMMARY: The Environmental Protection Agency (EPA) Science Advisory Board (SAB) Staff Office announces a public teleconference of the SAB Computable General Equilibrium (CGE) Model Review Panel to discuss its review of a CGE model from the EPA's National Center for Environmental Economics.

DATES: The public teleconference will be held on August 22, 2019, from 12:00 p.m. to 3:00 p.m. (Eastern Time).

ADDRESSES: The public teleconference will be held by telephone only.

FOR FURTHER INFORMATION CONTACT: Any member of the public wishing further information regarding the public teleconference may contact Dr. Holly Stallworth, Designated Federal Officer (DFO), SAB Staff Office, by telephone at (202) 564-2073 or email at stallworth.holly@epa.gov. The SAB mailing address is U.S. EPA Science Advisory Board (1400R), U.S. Environmental Protection Agency, 1200 Pennsylvania Avenue NW, Washington, DC 20460. General information about the SAB, including information concerning the SAB teleconference announced in this notice, can be found at the SAB web page at http://epa.gov/sab.

SUPPLEMENTARY INFORMATION:

Background: The SAB was established pursuant to the Environmental Research, Development, and Demonstration Authorization Act (ERDAA) codified at 42 U.S.C. 4365, to provide independent scientific and technical peer review, advice, consultation, and recommendations to the EPA Administrator on the technical basis for Agency positions and regulations. The SAB is a Federal Advisory Committee chartered under the Federal Advisory Committee Act (FACA), 5 U.S.C., App. 2. The SAB will comply with the provisions of FACA and all appropriate SAB Staff Office procedural policies.

Pursuant to FACA and EPA policy, notice is hereby given that the SAB CGE Model Review Panel will hold a public teleconference to discuss its review of a CGE model from EPA's National Center for Environmental Economics. The Panel will provide advice to the Administrator through the chartered SAB. Background information on the SAB CGE Model Review Panel can be found at https://yosemite.epa.gov/sab/sabproduct.nsf/02ad90b136fc21ef85256eba00436459/18a2abac2e4b5ec9852583bc004ce70a!OpenDocument.

The public teleconference on August 22, 2019, will be an orientation teleconference during which the National Center for Environmental Economics will brief the Panel on the context for the review, the CGE model itself and the charge questions. A face-to-face meeting date and location will be announced at a later time.

All draft reports developed by SAB panels, committees or workgroups are reviewed and approved by the Chartered SAB through a quality review process before being finalized and transmitted to the EPA Administrator.

Availability of the teleconference materials: An agenda will be posted on the SAB website prior to the August 22, 2019, orientation teleconference. Other materials to be posted prior to the public teleconference include PowerPoint slides for all EPA presentations and the charge questions. The CGE model source code and documentation as well as memos on model versioning and potential near-term model improvements will be posted shortly after the August 22, 2019, teleconference. While the source code and documentation will be available to the public, some of the data to run the model is proprietary and would have to be purchased from The IMPLAN Group LLC (implan.com). Instructions and source code to build the model's dataset from the IMPLAN data will be posted. To locate teleconference materials, go to epa.gov/sab and click on “Upcoming and Recent Meetings” to get to the SAB calendar. From the calendar, click on August 22, 2019. For questions concerning EPA's review materials on its CGE model, please contact Dr. Ann Wolverton, EPA National Center for Environmental Economics at wolverton.ann@epa.gov or 202-566-2278.

Procedures for Providing Public Input: Public comment for consideration by EPA's federal advisory committees and panels has a different purpose from public comment provided to the EPA program offices. Therefore, the process for submitting comments to a federal advisory committee is different from the process used to submit comments to an EPA program office. Federal advisory committees and panels, including scientific advisory committees, provide independent advice to the EPA. Members of the public can submit relevant comments on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information.

Oral Statements: In general, individuals or groups requesting an oral presentation at the will be limited to five minutes per speaker. Interested parties should contact Dr. Holly Stallworth, DFO, in writing (preferably via email), at the contact information noted above by August 15, 2019, to be placed on the list of public speakers for the orientation teleconference.

Written Statements: Written statements will be accepted throughout the advisory process; however, for timely consideration by Committee/Panel members, statements should be supplied to the DFO (preferably via email) at the contact information noted above by August 15, 2019, for consideration at the teleconference on August 22, 2019.

It is the SAB Staff Office general policy to post written comments on the web page for the advisory meeting or teleconference. Submitters are requested to provide an unsigned version of each document because the SAB Staff Office does not publish documents with signatures on its website. Members of the public should be aware that their personal contact information, if included in any written comments, may be posted to the SAB website. Copyrighted material will not be posted without explicit permission of the copyright holder.

Accessibility: To request accommodation of a disability, please contact Dr. Stallworth at 202-564-2073 or stallworth.holly@epa.gov. To request accommodation of a disability please contact Dr. Stallworth, preferably at least ten days prior to the teleconference, to give the EPA as much time as possible to process your request.

Dated: July 30, 2019.
Khanna Johnston,
Deputy Director, EPA Science Advisory Board Staff Office.

[FR Doc. 2019-16792 Filed 8-5-19; 8:45 am]

BILLING CODE 6560-50-P